DEPARTMENT OF DEFENSE

Department of the Army; Corps of Engineers

Availability of the Final Environmental Impact Statement for the Missouri River Master Water Control Manual Review and Update

AGENCY: Department of the Army, U.S. Army Corps of Engineers, DoD.

ACTION: Notice of availability.

SUMMARY: In accordance with the National Environmental Policy Act (NEPA) and implementing regulations, a Final Environmental Impact Statement (FEIS) has been prepared to evaluate the environmental impacts of a Preferred Alternative (PA) Water Control Plan for the U.S. Army Corps of Engineers (Corps) operation of the Missouri River Mainstem Reservoir System (Mainstem Reservoir System). The Missouri River Master Water Control Manual (Master Manual) specifies the operating criteria for the operation of six Corps dams and reservoirs on the mainstem of the Missouri River. The original Master Manual was published in December 1960. Revisions were published in revised Master Manuals in 1975 and 1979. The existing Master Manual establishes guidelines for operation of the Mainstem Reservoir System for the multiple project purposes of flood control, hydropower, water supply, water quality, irrigation, navigation, recreation, and fish and wildlife. Each year an Annual Operating Plan is developed using the Water Control Plan outlined in the Master Manual as a guide. During the periods 1987-1993 and 2000-present, the Missouri River basin experienced moderate to severe droughts. There were numerous lawsuits concerning the Corps' operation of the reservoirs during both droughts. In November 1989, the Corps initiated a Review and Update of the Master Manual and published a Draft Environmental Impact Statement (DEIS) in 1994. In response to public comments and requests for additional studies received during the comment period following publication of the DEIS, the Corps revised that document. In August 2001, the Corps published a Revised Draft Environmental Impact Statement (RDEIS). The RDEIS, which did not identify a PA, analyzed the environmental effects of a set of six alternative water control plans for the Master Manual. During the 6-month public comment period on the RDEIS, 20 Tribal and public workshops and hearings were held throughout the Missouri River basin, including Tribal Reservations, and at some Mississippi River locations. About 54,000 Tribal and public comments were received.

Following publication of the RDEIS, the Corps and the U.S. Fish and Wildlife Service (USFWS) reinitiated consultation under Section 7 of the Endangered Species Act (ESA). On November 3, 2003, the Corps provided the USFWS a Biological Assessment (BA) that identified the Corps proposed action for operation of the Missouri River Mainstem Reservoir System, Missouri River Bank Stabilization and Navigation Project, and Kansas River Reservoir System. The Corps proposed action includes the operational changes identified in the PA. The PA identified in the FEIS includes the features identified below:

(1) More Stringent Drought Conservation Measures;

(2) Unbalancing the Upper Three Reservoirs; and

(3) Increased Summer Releases to the Lower River in Non-navigation Years.

On December 16, 2003, the USFWS provided the Corps an amendment to its November 2000 Biological Opinion (BiOp) on the Operation of the Missouri River Mainstem Reservoir System, Missouri River Bank Stabilization and Navigation Project, and Kansas River Reservoir System. The amended BiOp and comments received in response to the FEIS will be considered in the Corps' decision regarding a selected plan, which will be announced in the Corps' Record of Decision following the FEIS review period.

DATES: Due to a court order dated February 26, 2004, issued by the United States District Court for the District of Minnesota, in Case No. 03-MD-1555, In re: Operation of the Missouri River System Litigation, the public review period for the FEIS extends from March 5, 2004 to March 19, 2004.

FOR FURTHER INFORMATION CONTACT: Questions regarding the FEIS may be sent to Rosemary Hargrave, U.S. Army Corps of Engineers, Northwestern Division, 12565 West Center Road, Omaha, NE 68114-3869. Ms. Hargrave can also be contacted by telephone at (402) 697-2527, or e-mail at rosemary.c.hargrave@usace.army.mil.

SUPPLEMENTARY INFORMATION: The Missouri River extends 2,619 miles from its source at Hell Roaring Creek to its confluence with the Mississippi River near St. Louis, Missouri. The Missouri River is the longest river in the United States, draining one sixth of the country. The Mainstem Reservoir System consists of six dams and reservoirs located in Montana, North Dakota, South Dakota, and Nebraska. The Mainstem Reservoir System has the capacity to store 73.4 million acre-feet of water, which makes it the largest system of reservoirs in North America. Water flowing down the Missouri River is stored in the six lakes and released as needed for project purposes. The planes of conflict surrounding the revision of the Master Manual are numerous, complex, and contentious. While the basin has made historic progress during the last decade, significant controversy still remains. In the course of the Master Manual Review and Update, much controversy has centered on inclusion of more stringent drought conservation measures in a revised Water Control Plan and on changes in spring and summer releases from Gavins Point Dam for three species provided protection under the Endangered Species Act.

There are 30 Federally recognized American Indian Tribes in the Missouri River basin. Thirteen reservations are located on the mainstem of the Missouri River. The Tribes are dependent sovereign nations and the Corps has a Trust responsibility to the Tribes. The FEIS, which includes a Tribal Appendix, identifies impacts to Tribes resulting from changes in the operation of the Mainstem Reservoir System. Consultation with basin Tribes on the Master Manual Review and Update will continue throughout the NEPA process as the Corps meets its Tribal responsibilities.

Following the review period (see DATES), the Corps will prepare a Record of Decision, revise the Master Manual, and develop and implement an Annual Operating Plan in conformance with the revised manual.

Additional information can be found on the Corps' Northwestern Division Web page at http://www.nwd.usace.army.mil.

Luz D. Ortiz,
Army Federal Liaison Officer.

[FR Doc. 04-4879 Filed 3-4-04; 8:45 am]

BILLING CODE 3710-62-M